DEPARTMENT OF DEFENSE

Office of the Secretary

[DoD-2008-OS-0001]

Higher Limit to Initial Maximum Uniform Allowance Rate; 5 CFR Part 591, Subpart A

AGENCY: Department of Defense; Office of the Deputy Under Secretary of Defense (Civilian Personnel Policy).

ACTION: Notice; request for comments.

SUMMARY: The Department of Defense (DoD or “the Department”), is proposing to establish a higher limit to the initial maximum uniform allowance used to procure and issue uniform items for firefighter personnel. This proposal is pursuant to the authority granted to DoD by § 591.104 of title 5, Code of Federal Regulations (CFR), which states that an agency may establish one or more initial maximum uniform allowance rates greater than the government-wide maximum uniform allowance rate established under 5 CFR 591.103.

DATES: The Department must receive comments on or before May 9, 2008.

ADDRESSES: You may submit comments, identified by docket number and/or RIN number and title, by any of the following methods:

• Federal eRulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://regulations.gov as they are received without change, including any personal identifiers or contact information.

FOR FURTHER INFORMATION CONTACT: Ms. Mary Olson, 703-901-6840.

SUPPLEMENTARY INFORMATION: DoD is proposing to implement a higher limit to the initial maximum uniform allowance to procure and issue uniform items for firefighter personnel. This is being proposed in accordance with 5 CFR 591.104, which states that an agency may establish one or more initial maximum uniform allowance rates greater than the government-wide maximum uniform allowance rate established under 5 CFR 591.103. The current limit has become inadequate to maintain the uniform standards and professional image expected of DoD firefighters. The uniform items for firefighters include the following items or similar items such as: Work shirts, work pants, work t-shirts, work coat, work cap, belt, dress shirts, dress pants, dress coat, dress shoes, dress hat, dress tie, weather gear, tie clips, tie bars, rank insignia, badges, patches, and name tags. The itemized total uniform cost for the listed items is $1604.14. Based on these current costs, the Department is proposing to increase the limit to the initial maximum uniform allowance for uniformed firefighter personnel to $1600.00. The number of firefighters affected by this change in the Department would be approximately 900 employees annually. The proposed effective date of this higher initial maximum uniform allowance rate is June 9, 2008.

Dated: March 4, 2008.
L.M. Bynum,
Alternate OSD Federal Register Liaison Officer, Department of Defense.

[FR Doc. E8-4725 Filed 3-7-08; 8:45 am]

BILLING CODE 5001-06-P